DEPARTMENT OF DEFENSE

Department of the Air Force

Notice Is Given of the Names of Members of a Performance Review Board for the Department of the Air Force

AGENCY: Department of the Air Force, DOD.

ACTION: Notice.

SUMMARY: Notice is given of the names of members of a Performance Review Board for the Department of the Air Force.

DATES: Effective Date: November 7, 2011.

SUPPLEMENTARY INFORMATION: Pursuant to 5 U.S.C. 4314(c) (1-5), the Department of the Air Force (AF) announces the appointment of members to the AF's Senior Executive Service (SES) Pay Pool and Performance Review Board (PRB). Appointments are made by the authorizing official. Each board member shall review and evaluate performance scores provided by the SES' immediate supervisor. Performance standards must be applied consistently across the U.S. Air Force. The board will make recommendations to the appointing authority or rating official relative to the performance of the executive. The members of the 2011 Performance Review Board for the U.S. Air Force are:

1. Board President—Gen. Shelton, Commander, Air Force Space Command;

2. Lt. Gen. Lord—Chief, Warfighting Integration and Chief Information Officer, SECAF;

3. Lt. Gen. Helms—Commander, Fourteenth Air Force;

4. Mr. Corsi, Assistant Deputy Chief of Staff for Manpower and Personnel;

5. Ms. Miller, Assistant Deputy Chief of Staff G-4 (Army);

6. Mr. Williams, Director, Defense Contract Management Agency;

7. Ms. Roby, Deputy Assistant Secretary of Defense (Resources);

8. Ms. Zardokiewicz, Principal Deputy Assistant Secretary, Financial Management;

9. Mr. McMillin, Deputy Chief of Staff for Warfighting Integration and Deputy CIO;

10. Ms. Cannon, Deputy General Counsel;

11. Ms. Rooney, Director, Intelligence Systems Support Office;

12. Mr. Peterson, Director, Air Force Financial Services Center;

13. Mr. Dumm, Director, ISR Plans and Resources, Deputy Chief of Staff, Intelligence, Surveillance and Reconnaissance.

Additionally, all career status Air Force Tier 3 SES members not included in the above list are eligible to serve on the 2011 Performance Review Board and are hereby nominated for inclusion on an ad hoc basis in the event of absence(s).

FOR FURTHER INFORMATION CONTACT: Please direct any written comments or requests for information to Ms. Erin Moore, Chief, Sustainment Division, Senior Executive Management, AF/DPSS, 1040 Air Force Pentagon, Washington, DC 20330-1040 (Ph: 703-695-7677; or via e-mail at erin.moore@pentagon.af.mil.).

Bao-Anh Trinh,
DAF, Air Force Federal Register Liaison Officer.

[FR Doc. 2011-21469 Filed 8-22-11; 8:45 am]

BILLING CODE 5001-10-P